DEPARTMENT OF ENERGY

Federal Energy Regulatory Commission

[Docket Nos. EL18-182-000, ER18-2364-000, ER19-1428-000, ER13-2266-004, ER18-1639-000, ER18-1639-002 and ER18-1639-003]

ISO New England Inc. and Constellation Mystic Power, LLC; Notice of Staff-Led Public Meeting

Take notice that Federal Energy Regulatory Commission (Commission) staff will convene a staff-led public meeting on Monday, July 15, 2019, beginning at 10:00 a.m. (ET). The public meeting will be held in the Commission Meeting Room at Commission headquarters, 888 First Street NE, Washington, DC 20426. Commissioners may attend and participate.

On July 2, 2018, the Commission directed the ISO New England Inc. (ISO-NE) to submit permanent revisions to the ISO-NE Transmission, Markets and Services Tariff (Tariff) reflecting improvements to its market design to better address regional fuel security concerns,¹ which are due on October 15, 2019.² On April 22, 2019, ISO-NE, the New England States Committee on Electricity, and the New England Power Pool (NEPOOL) Participants Committee jointly requested a public meeting to share with Commission staff information about efforts to develop these proposed Tariff revisions without violating the Commission's ex parte rules. This notice of public meeting is in response to that request.

¹ ISO New England Inc., 164 FERC ¶ 61,003, at P 2 (2018).

² Notice of Extension of Time, Docket No. EL18-182-000 (March 18, 2019).

This staff-led public meeting will consist of three, 90-minute presentations by ISO-NE, NEPOOL stakeholders, and representatives from New England states with time for questions and answers reserved at the end of the meeting. Questions will only be permitted from Commission staff and Commissioners. Further information related to this public meeting will be provided in a supplemental notice.

All interested persons may attend the public meeting. Registration is not required. However, in-person attendees are encouraged to pre-register on-line at: https://www.ferc.gov/whats-new/registration/07-15-19-form.asp. In-person attendees should allow time to pass through building security procedures before the 10:00 a.m. start time of the public meeting.

The public meeting will be webcast. A link to the webcast of this event will be available in the Commission Calendar of Events at www.ferc.gov. The Capitol Connection provides technical support for webcasts and offers the option of listening to the meeting via phone-bridge for a fee. If you have any questions, visit http://www.CapitolConnection.org or call (703) 993-3100.

The public meeting will not be transcribed. PowerPoint slides or printed documents used in the public meeting will be entered into the record in Docket No. EL18-182-000.

Commission public meetings are accessible under section 508 of the Rehabilitation Act of 1973. For accessibility accommodations, please send an email to accessibility@ferc.gov or call toll free 1-866-208-3372 (voice) or 202-208-8659 (TTY), or send a fax to 202-208-2106 with the required accommodations.

For more information about this public meeting, please contact Frank Swigonski by phone at (202) 502-8089 or by email at frank.swigonski@ferc.gov. For information related to logistics, please contact Sarah McKinley at (202) 502-8368 or by email at sarah.mckinley@ferc.gov.

Dated: May 21, 2019.
Nathaniel J. Davis, Sr.,
Deputy Secretary.

[FR Doc. 2019-11162 Filed 5-28-19; 8:45 am]

BILLING CODE 6717-01-P